DEPARTMENT OF TRANSPORTATION

Federal Highway Administration

Notice To Rescind a Notice of Intent To Prepare an Environmental Impact Statement: State Route 18 From State Route-64 at Bolivar to State Route-100, Hardeman County, Tennessee

AGENCY: Federal Highway Administration (FHWA), DOT.

ACTION: Notice to Rescind a Notice of Intent to prepare an Environmental Impact Statement (EIS).

SUMMARY: The Federal Highway Administration (FHWA) is issuing this notice to advise the public that the Notice of Intent published on March 7, 2007 to prepare an EIS for the proposed project to improve State Route 18 from State Route-64 at Bolivar to State Route-100, Hardeman County, Tennessee, is being rescinded.

FOR FURTHER INFORMATION CONTACT: Ms. Theresa Claxton, Planning and Program Management Team Leader, Federal Highway Administration—Tennessee Division Office, 404 BNA Drive, Suite 508, Nashville, TN 37217. 615-781-5770.

SUPPLEMENTARY INFORMATION: The FHWA, in cooperation with the Tennessee Department of Transportation (TDOT), is rescinding the notice of intent to prepare an EIS for an upgrade to the existing State Route 18 from State Route-64 at Bolivar to State Route-100, Hardeman County. The proposed project was approximately 10 miles in length and had been developed to bypass downtown Bolivar.

TDOT conducted public involvement and agency coordination, developed a purpose and need for the project and developed preliminary alternatives. In August of 2012, TDOT circulated and requested comments on a Preliminary Draft EIS (PDEIS) that was sent to agencies participating in Tennessee's Environmental Streamlining Agreement, including FHWA. Following the PDEIS, TDOT further considered the cost of the project, the project purpose and need and a southern bypass of Bolivar, a separate project that had been approved in a 2004 NEPA Finding of No Significant Impact. They also considered the adverse comments received from the public and resource agencies related to purpose and need, environmental impacts and project cost. Upon full consideration of the issues identified, FHWA and TDOT determined that they would not pursue the State Route 18 (Bolivar Northern Bypass) project.

Comments and questions concerning the proposed action should be directed to FHWA at the address provided above.

(Catalog of Federal Domestic Assistance Program Number 20.205, Highway Planning and Construction. The regulations implementing Executive Order 12372 regarding intergovernmental consultation on Federal programs and activities apply to this proposed program.)

Dated: April 3, 2014.
Theresa Claxton,
Planning and Program Mgmt. Team Leader, Nashville, TN.

[FR Doc. 2014-07939 Filed 4-8-14; 8:45 am]

BILLING CODE 4910-22-P